DEPARTMENT OF TRANSPORTATION

National Highway Traffic Safety Administration

49 CFR Part 571

Federal Motor Vehicle Safety Standards; Denial of Petition for Rulemaking

AGENCY: National Highway Traffic Safety Administration (NHTSA), Department of Transportation.

ACTION: Denial of petition for rulemaking.

SUMMARY: This document denies a petition for rulemaking from the Center for Auto Safety (CAS) asking that we initiate rulemaking to require that any vehicle integrated personal communication systems including cellular phones and text messaging systems be inoperative when the vehicle is in motion.

FOR FURTHER INFORMATION CONTACT: For non-legal issues, you may call Ms. Gayle Dalrymple of the NHTSA Office of Crash Avoidance Standards, at 202-366-5559.

For legal issues, you may call Ms. Dorothy Nakama of the NHTSA Office of Chief Counsel at 202-366-2992.

You may send mail to both of these officials at the National Highway Traffic Safety Administration, 1200 New Jersey Avenue, SE., Washington, DC 20590.

SUPPLEMENTARY INFORMATION:

Petition for Rulemaking

The Center for Auto Safety (CAS) submitted a petition for rulemaking asking that we “initiate rulemaking to prohibit the use of integrated cellular telephones and other interactive communication and data transmission devices that can be used for personal conversations and other interactive personal communication or messaging while a vehicle is in motion.” CAS stated that the purpose of the petition was to “make the driving environment safer by reducing the availability of devices that have been proven to be traffic hazards.” CAS specifically petitioned NHTSA to undertake the following:

First, CAS petitioned NHTSA to issue a notice of proposed rulemaking (NPRM) to amend Federal Motor Vehicle Safety Standard (FMVSS) No. 102, Transmission shift lever sequence, starter interlock, and transmission braking effect, by adding a new provision that would state:

Any vehicle integrated personal communication systems including cellular phones and text messaging shall be inoperative when the transmission shift lever is in a forward or reverse drive position.

Second, CAS petitioned NHTSA to issue an advance notice of proposed rulemaking (ANPRM) to consider “subjecting other vehicle integrated telematic ¹ systems that significantly increase vehicle crash rates to be included in the scope of the above proposed amendment to FMVSS No. 102.”

¹ At AskOxford.com, the online edition of the Oxford Dictionary of the English language, “telematics” is defined as “the branch of information technology which deals with the long-distance transmission of computerized information.”

Finally, CAS asked that NHTSA increase efforts to support state programs to limit cell phone use by drivers in moving vehicles in the same manner it supports state programs against drunk driving.

In its petition, CAS provided background concerning increasing use by the automotive industry of in-vehicle technologies with telematic options, which it stated results in distracted driving. CAS asserted that research shows that operating a motor vehicle while talking on a cell phone (hand-held or hands-free) “increases the risk of an accident to three to four times the experience of attentive drivers.”

CAS cited a number of States that have enacted legislation designed to restrict cell phone use as a response to the problem of distracted driving caused by cell phones. It stated that the highest of these standards prohibits the use of any hand-held cell phone but permits drivers to use hands-free wireless devices.

CAS stated that even if States were to extend the regulations to hands-free cell phones, enforcing such regulations would be a problem, as it would be virtually impossible for a traffic officer to see a driver using a hands-free cell phone. The petitioner stated that the solution to stopping hands-free talking and driving in a vehicle with an integrated cell phone is “through a Federal Motor Vehicle Safety Standard prohibiting the use of cell phone communications while the vehicle is in motion.”

CAS provided accounts of motor vehicle crashes resulting in deaths in which it asserted cell phone use was a crash causation factor. CAS concluded by urging the government “to intervene on this dangerous practice, to ensure basic protection for those who use public roads and sidewalks.”

General Motors and Ford submitted comments opposing the CAS petition.²

² Docket # NHTSA 2007-28442.

Analysis and Decision

We begin by noting that NHTSA has issued the following policy statement concerning cell phone use while driving, which is included on the agency's Web site:

The primary responsibility of the driver is to operate a motor vehicle safely. The task of driving requires full attention and focus. Cell phone use can distract drivers from this task, risking harm to themselves and others. Therefore, the safest course of action is to refrain from using a cell phone while driving.

CAS's petition for rulemaking specifically requests that the agency address the issue of driver distraction related to the use of cell phones and other telematic devices by requiring such devices, when integrated into the vehicle, to be inoperative whenever the vehicle may be in motion. After carefully considering the available data and the petitioner's request, we have decided to deny the request.

By way of background, NHTSA and others recognize that driver distraction due to use of phones or other devices while driving can increase the crash risk.³ As such, NHTSA has and will continue to address the issue.

³ McCartt et al., “Cell Phones and Driving: Review of the Research.” Traffic Injury Prevention No 7, 89-106, 2006.

Our initial work on this topic was published in 1997.⁴ In 2000, NHTSA sponsored an Internet Forum, a Public Meeting, and Expert Working Groups aimed at providing an extensive resource of information on research findings, industry initiatives, public comments, and research needs on driver distraction.⁵

⁴ An Investigation of the Safety Implications of Wireless Communications in Vehicles, http://www.nhtsa.dot.gov/people/injury/research/wireless/.

⁵ NHTSA Driver Distraction Internet Forum: Summary and Proceedings, http://www-nrd.nhtsa.dot.gov/pdf/nrd-13/FinalInternetForumReport.pdf.

Both the 1997 study and the 2000 meetings provided information that helped identify the research goals NHTSA should pursue to help minimize the distraction safety problem. Since then, the focus of our research has been to:

1. Understand the magnitude and characteristics of the safety problem.

2. Develop measurement methods to quantify the impacts of device designs on driver performance.

3. Evaluate reducing distraction related crash risk through driver assistance technologies, such as collision warning systems.

We have worked with researchers in universities, private organizations, and industry to address these issues. As a result, we have gained insights about the risks of multitasking,⁶ developed methods to quantify the effect of operating various devices while driving,⁷ worked to better understand the importance of device interface design on driving performance,⁸ and evaluated several countermeasures that can reduce the risk of distraction by warning drivers of imminent dangers.⁹ In anticipation of the emergence of multiple, potentially distracting technologies, NHTSA has also undertaken a research program to evaluate the potential of a system that could monitor the level of distraction of drivers, control the information flow to the driver, and adjust the parameters on collision warning systems to increase their effectiveness.¹⁰

⁶ The Impact of Driver Inattention on Near-Crash/Crash Risk: An Analysis Using the 100-Car Naturalistic Driving Study Data, http://www.nhtsa.gov/staticfiles/DOT/NHTSA/NRD/Multimedia/PDFs/Crash%20Avoidance/Driver%20Distraction/810594.pdf.

⁷ Driver Workload Metrics, 2006, http://www.nhtsa.gov/staticfiles/DOT/NHTSA/NRD/Multimedia/PDFs/Crash%20Avoidance/Driver%20Distraction/Driver%20Workload%20Metrics%20Final%20Report.pdf.

⁸ Examination of the Distraction Effects of Wireless Phone Interfaces Using the National Advanced Driving Simulator, 2004, http://www.nhtsa.gov/staticfiles/DOT/NHTSA/NRD/Multimedia/PDFs/VRTC/ca/capubs/Wireless1F_PrelimReport.pdf.

⁹ Driver distraction, warning algorithm parameters, and driver response to imminent rear-end collisions in a high-fidelity driving simulator, 2002, http://www.nhtsa.gov/staticfiles/DOT/NHTSA/NRD/Multimedia/PDFs/Human%20Factors/Driver%20Assistance/DOT%20HS%20809%20448.pdf.

¹⁰ http://www.volpe.dot.gov/hf/roadway/saveit/index.html.

Additional NHTSA research on Intelligent Transportation Systems (ITS), such as the Integrated Vehicle Based Safety Systems (IVBSS) Initiative, may also lead to countermeasures for driver distraction. Significant human factors work is underway in IVBSS to design an integrated Driver-Vehicle Interface (DVI) that minimizes distraction and provides effective warnings to drivers.¹¹

¹¹ http://www.its.dot.gov/ivbss/.

CAS's petition for rulemaking specifically asks us to address the problem of driver distraction related to use of cell phones and other telematic devices by requiring such devices, when integrated into the vehicle, to be inoperative when the transmission shift lever is in a forward or reverse drive position, i.e., whenever the vehicle may be in motion.

Federal motor safety standards are required to “meet the need for motor vehicle safety.” 49 U.S.C. 30111(a). However, CAS has not provided information or analysis showing that the rule it requests would result in safety benefits.

If integrated cell phones and other telematic devices were required to be inoperative, drivers could instead use portable devices such as their regular cell phones. Given the number of drivers who currently use cell phones, the agency believes this would be the likely result. The agency estimates that in 2005, six percent of drivers at any given moment were using hand-held cell phones.¹² The estimate is from the National Occupant Protection Use Survey (NOPUS), which is the only source of probability-based observed data on cell phone use by drivers in the United States.

¹² “Driver Cell Phone Use in 2005—Overall Results,” Research Note DOT HS 809 967, National Center for Statistics and Analysis, NHTSA, December 2005.

For the above reasons, we conclude that there is no reason to believe that the rule requested by the petitioner would result in safety benefits. Accordingly, we are denying the petition.

We note that even putting aside the issue of drivers substituting portable devices for integrated devices, the information provided by CAS would not lead us to grant its petition.

In the rulemaking advocated by the petitioner, the agency would need to consider, among other things, the specific safety impacts associated with current integrated systems and reasonably foreseeable integrated systems. It would be necessary to consider reasonably foreseeable integrated systems given that the requested rule would prohibit all systems that can be used while the vehicle is in motion. CAS has not provided specific data or analysis along these lines.

We also note that in the rulemaking advocated by the petitioner, the agency would need to consider costs as well as benefits.

Given the lack of specific data and analysis and also considering the resources needed to conduct rulemaking, we would not initiate rulemaking in this area based on the information provided by CAS.

Finally, as noted earlier, CAS asked that NHTSA increase efforts to support state programs to limit cell phone use by drivers in moving vehicles in the same manner it supports state programs against drunk driving. This particular request is not amenable to being addressed by rulemaking.

States have recognized the need to discourage driver distractions such as cell phone use and texting and many State legislatures have taken action to restrict those practices.

While various legislative and educational approaches have been utilized, little evaluation has been completed and best practices have yet to be demonstrated. NHTSA has solicited potential options for a demonstration project in this area to begin in Fiscal Year 2008 or 2009.

Pursuant to Section 2003(d) of Public Law 109-59 (August 10, 2005), the Safe, Accountable, Flexible, Efficient Transportation Equity Act: A Legacy for Users (SAFETEA-LU), NHTSA will be conducting multiple demonstration programs to evaluate new and innovative means of combating traffic system problems caused by distracted, inattentive or fatigued drivers.

Authority: 49 U.S.C. 322, 30111, 30115, 30117 and 30166; delegation of authority at 49 CFR 1.50.

Issued on: May 27, 2008.
Stephen R. Kratzke,
Associate Administrator for Rulemaking.

[FR Doc.E8-12285 Filed 6-2-08; 8:45 am]

BILLING CODE 4910-59-P